DEPARTMENT OF TRANSPORTATION

Federal Aviation Administration

14 CFR Part 39

[Docket No. FAA-2013-0981; Directorate Identifier 2013-NM-032-AD; Amendment 39-18036; AD 2014-24-03]

RIN 2120-AA64

Airworthiness Directives; The Boeing Company Airplanes

AGENCY: Federal Aviation Administration (FAA), DOT.

ACTION: Final rule.

SUMMARY: We are superseding Airworthiness Directive (AD) 97-11-07 and AD 99-18-23, which apply to all The Boeing Company Model MD-90-30 airplanes. AD 97-11-07 and AD 99-18-23 required revising the Airworthiness Limitations Section (ALS) of the Instructions for Continued Airworthiness to incorporate certain compliance times for principal structural element (PSE) inspections and replacement times for safe-life limited parts. This new AD also requires revising the maintenance or inspection program to incorporate a new PSE requirement for the rear spar caps of the horizontal stabilizer and its associated inspections, which would terminate certain inspections of the horizontal stabilizer rear spar. This AD was prompted by an analysis of data that identified a need to introduce a new PSE requirement for the rear spar caps of the horizontal stabilizer. We are issuing this AD to detect and correct fatigue cracking of PSEs and certain safe-life limited parts, which could adversely affect the structural integrity of the airplane.

DATES: This AD is effective January 27, 2015.

The Director of the Federal Register approved the incorporation by reference of a certain publication listed in this AD as of January 27, 2015.

The Director of the Federal Register approved the incorporation by reference of a certain other publication listed in this AD as of October 8, 1999 (64 FR 48284, September 3, 1999).

ADDRESSES: For service information identified in this AD, contact Boeing Commercial Airplanes, Attention: Data & Services Management, 3855 Lakewood Boulevard, MC D800-0019, Long Beach, CA 90846-0001; telephone 206-544-5000, extension 2; fax 206-766-5683; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-0981; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Roger Durbin, Airframe Branch, ANM-120L, FAA, Los Angeles Aircraft Certification Office (ACO), 3960 Paramount Boulevard, Lakewood, CA 90712-4137; phone: 562-627-5233; fax: 562-627-5210; email: roger.durbin@faa.gov.

SUPPLEMENTARY INFORMATION:

Discussion

We issued a notice of proposed rulemaking (NPRM) to amend 14 CFR part 39 to supersede AD 97-11-07, Amendment 39-10036 (62 FR 27941, May 22, 1997); and AD 99-18-23, Amendment 39-11289 (64 FR 48284, September 3, 1999). AD 97-11-07 and AD 99-18-23 applied to all The Boeing Company Model MD-90-30 airplanes. The NPRM published in the Federal Register on December 9, 2013 (78 FR 73739). An action to reopen the comment period was issued on April 4, 2014 (79 FR 20138, April 11, 2014). The NPRM was prompted by an analysis of data that identified a need to introduce a new PSE requirement for the rear spar caps of the horizontal stabilizer. The NPRM proposed to continue to require revising the maintenance or inspection program to incorporate certain compliance times for PSE inspections and replacement times for safe-life limited parts. The NPRM also proposed to require revising the maintenance or inspection program to incorporate a new PSE requirement for the rear spar caps of the horizontal stabilizer and its associated inspections. We are issuing this AD to detect and correct fatigue cracking of PSEs and certain safe-life limited parts, which could adversely affect the structural integrity of the airplane.

Comments

We gave the public the opportunity to participate in developing this AD. We have considered the comment received. One commenter, a private individual, supported the NPRM (78 FR 73739, December 9, 2013).

Explanation of Changes Made to This AD

In the NPRM (78 FR 73739, December 9, 2013), we referred to McDonnell Douglas Airworthiness Limitations Instructions (ALI), Report No. MDC-94K9000, Revision 1, dated January 1995; or McDonnell Douglas Airworthiness Limitations Instructions (ALI), Report No. MDC-94K9000, Revision 2, dated July 1996; as the appropriate sources of service information for certain requirements retained from AD 97-11-07, Amendment 39-10036 (62 FR 27941, May 22, 1997). We have changed paragraphs (g) and (h) of this AD by removing these references because this service information is out of date and no longer available. Instead, we have provided the option of using a method approved by the FAA to accomplish the actions in those paragraphs. We have also added a new paragraph (n) to this AD to provide credit for previous actions done using these earlier revisions. We have redesignated subsequent paragraphs accordingly.

We have also replaced the text “alternative inspections and inspection intervals” specified in paragraph (k) of the proposed AD (78 FR 73739, December 9, 2013) with the text “alternative replacement times” in paragraph (k) of this AD in order to clarify that no alternative replacement times for certain safe-life limited parts may be approved, except as provided by paragraphs (l) and (o) of this AD.

Conclusion

We reviewed the relevant data, considered the comments received, and determined that air safety and the public interest require adopting this AD with the changes described previously and minor editorial changes. We have determined that these minor changes:

• Are consistent with the intent that was proposed in the NPRM (78 FR 73739, December 9, 2013) for correcting the unsafe condition; and

• Do not add any additional burden upon the public than was already proposed in the NPRM (78 FR 73739, December 9, 2013).

Costs of Compliance

We estimate that this AD affects 52 airplanes of U.S. registry.

We estimate the following costs to comply with this AD:

Estimated Costs
Action | Labor cost | Parts cost | Cost per product | Cost on U.S. operators
Revise airworthiness limitations [retained actions from AD 97-11-07, Amendment 39-10036 (62 FR 27941, May 22, 1997) | 1 work-hour × 85 per hour = 85 | 0 | 85 | 4,420
Revise airworthiness limitations [retained actions from AD 99-18-23, Amendment 39-11289 (64 FR 48284, September 3, 1999) | 1 work-hour × 85 per hour = 85 | 0 | 85 | 4,420
Revise airworthiness limitations [new action] | 1 work-hour × 85 per hour = 85 | 0 | 85 | 4,420

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by

a. Removing Airworthiness Directive (AD) 97-11-07, Amendment 39-10036 (62 FR 27941, May 22, 1997); and AD 99-18-23, Amendment 39-11289 (64 FR 48284, September 3, 1999); and

b. Adding the following new AD:

2014-24-03 The Boeing Company: Amendment 39-18036; Docket No. FAA-2013-0981; Directorate Identifier 2013-NM-032-AD.

(a) Effective Date

This AD is effective January 27, 2015.

(b) Affected ADs

This AD replaces AD 97-11-07, Amendment 39-10036 (62 FR 27941, May 22, 1997); and AD 99-18-23, Amendment 39-11289 (64 FR 48284, September 3, 1999).

(c) Applicability

This AD applies to all The Boeing Company Model MD-90-30 airplanes, certificated in any category.

(d) Subject

Air Transport Association (ATA) of America Code 51, Standard Practices/Structures; Code 55, Stabilizers.

(e) Unsafe Condition

This AD was prompted by an analysis of data that identified a need to introduce a new principal structural element (PSE) requirement for the rear spar caps of the horizontal stabilizer. We are issuing this AD to detect and correct fatigue cracking of PSEs and certain safe-life limited parts, which could adversely affect the structural integrity of the airplane.

(f) Compliance

Comply with this AD within the compliance times specified, unless already done.

(g) Retained Revision of Airworthiness Limitations: Paragraph (a) of AD 97-11-07, Amendment 39-10036 (62 FR 27941, May 22, 1997)

This paragraph restates the requirements of paragraph (a) of AD 97-11-07, Amendment 39-10036 (62 FR 27941, May 22, 1997). Within 180 days after June 26, 1997 (the effective date of AD 97-11-07), revise the Airworthiness Limitations Section of the Instructions for Continued Airworthiness to incorporate the Item, Location, and Inspection Interval of PSEs identified in paragraphs (g)(1) through (g)(3) of this AD. This may be accomplished by inserting a copy of this AD into the ALI, or by using a method approved by the Manager, Los Angeles Aircraft Certification Office (ACO), FAA.

(1) For Item 53.30.02.3 at Skin Panels, station (STA) 237 to 1395 Fuselage Skin in Constant Section from Longeron 3 Left to Longeron 3 Right: the initial interval is 60,000 landings. Repeat the inspection thereafter at intervals not to exceed 11,000 landings.

(2) For Item 53.30.02.4 at Skin Panels, STA 237 to 1395 Fuselage Hoop Skin Splice in Constant Section from Longeron 5 Left to Longeron 5 Right: the initial interval is 60,000 landings. Repeat the inspection thereafter at intervals not to exceed 30,000 landings.

(3) For Item 54.10.04.1 at Thrust Bulkhead, Pylon—STA Yn 170.5—Rear Spar and Engine Thrust Support Fitting (Upper and Lower): the initial interval is 15,000 landings. Repeat the inspection thereafter at intervals not to exceed 4,500 landings.

(h) Retained Revision of Airworthiness Limitations: Paragraph (b) of AD 97-11-07, Amendment 39-10036 (62 FR 27941, May 22, 1997)

This paragraph restates the requirements of paragraph (b) of AD 97-11-07, Amendment 39-10036 (62 FR 27941, May 22, 1997). Within 180 days after June 26, 1997 (the effective date of AD 97-11-07), revise the Airworthiness Limitations Section of the Instructions for Continued Airworthiness to incorporate the Item, Location, and Inspection Interval of PSE 55.13.01.1 at Plates/Skin—Upper STA Xh 27.2 Left to Xh 27.2 Right—Upper Aft Skin Plank with Integral Stringers from Xh 7.234 to Xh 26.859. The initial interval is 60,000 landings. Repeat the inspection thereafter at intervals not to exceed 8,100 landings. This may be accomplished by inserting a copy of this AD into the ALI, or using a method approved by the Manager, Los Angeles ACO, FAA.

(i) Retained Restriction on Alternative Inspections and Inspection Intervals: Paragraph (c) of AD 97-11-07, Amendment 39-10036 (62 FR 27941, May 22, 1997)

This paragraph restates the restriction on alternative inspections and inspection intervals required by paragraph (c) of AD 97-11-07, Amendment 39-10036 (62 FR 27941, May 22, 1997). Except as provided by paragraphs (l) and (o) of this AD: After the actions required by paragraphs (g) and (h) of this AD have been accomplished, no alternative inspections or inspection intervals may be approved for the parts specified in paragraphs (g) and (h) of this AD.

(j) Retained Revision of Airworthiness Limitations of Safe-Life Limited Parts: Paragraph (a) of AD 99-18-23, Amendment 39-11289 (64 FR 48284, September 3, 1999)

This paragraph restates the requirements of paragraph (a) of AD 99-18-23, Amendment 39-11289 (64 FR 48284, September 3, 1999). Within 180 days after October 8, 1999 (the effective date of AD 99-18-23, Amendment 39-48284 (64 FR 48284, September 3, 1999)), revise the Airworthiness Limitations Section of the Instructions for Continued Airworthiness to incorporate the Part Number, Item, and Mandatory Replacement Time of certain safe-life limited parts by inserting McDonnell Douglas Airworthiness Limitations Instructions (ALI), Report No. MDC-94K9000, Revision 3, dated November 1997, into the ALI.

(k) Retained Restriction on Alternative Replacement Times: Paragraph (b) of AD 99-18-23, Amendment 39-11289 (64 FR 48284, September 3, 1999)

This paragraph restates the restriction on alternative replacement times required by paragraph (b) of AD 99-18-23, Amendment 39-11289 (64 FR 48284, September 3, 1999). Except as provided by paragraphs (l) and (o) of this AD: After the actions required by paragraph (j) of this AD have been accomplished, no alternative replacement times may be approved for the safe-life limited parts specified in McDonnell Douglas Airworthiness (Airworthiness Limitations Instructions (ALI) Report No. MDC-94K9000, Revision 3, dated November 1997.

(l) New Requirements of This AD: Revision of the Maintenance Program

Within 180 days after the effective date of this AD, revise the maintenance or inspection program, as applicable, to incorporate the tasks specified in Boeing MD-90 Airworthiness Limitations Instructions (ALI), Report No. MDC-94K9000, Revision 6, dated September 2011. The compliance times for the initial compliance time and repetitive intervals for the tasks are stated in Boeing MD-90 Airworthiness Limitations Instructions (ALI), Report No. MDC-94K9000, Revision 6, dated September 2011. Doing the revision required by this paragraph terminates the revisions required by paragraphs (g), (h), and (j) of this AD.

(m) New Restriction on Alternative Actions and Intervals

After accomplishing the revision required by paragraph (l) of this AD, no alternative actions (e.g., inspections) or intervals may be used unless the actions or intervals are approved as an AMOC in accordance with the procedures specified in paragraph (o) of this AD.

(n) Credit for Previous Actions

(1) This paragraph provides credit for the actions required by paragraph (g) of this AD, if those actions were performed before the effective date of this AD using McDonnell Douglas Airworthiness Limitations Instructions (ALI), Report No. MDC-94K9000, Revision 1, dated January 1995.

(2) This paragraph provides credit for the actions required by paragraph (h) of this AD, if those actions were performed before the effective date of this AD using McDonnell Douglas ALI, Report No. MDC-94K9000, Revision 2, dated July 1996.

(o) Alternative Methods of Compliance (AMOCs)

(1) The Manager, Los Angeles ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (p) of this AD.

(2) Before using any approved AMOC, notify your appropriate principal inspector, or lacking a principal inspector, the manager of the local flight standards district office/certificate holding district office.

(3) An AMOC that provides an acceptable level of safety may be used for any repair required by this AD if it is approved by Boeing Commercial Airplanes Organization Designation Authorization (ODA) that has been authorized by the Manager, Los Angeles ACO, to make those findings. For a repair method to be approved, the repair must meet the certification basis of the airplane and the approval must specifically refer to this AD.

(4) AMOCs approved previously for AD 97-11-07, Amendment 39-10036 (62 FR 27941, May 22, 1997); and AD 99-18-23, Amendment 39-11289 (64 FR 48284, September 3, 1999); are approved as AMOCs for the corresponding provisions of this AD.

(p) Related Information

For more information about this AD, contact Roger Durbin, Airframe Branch, ANM-120L, FAA, Los Angeles ACO, 3960 Paramount Boulevard, Lakewood, CA 90712-4137; phone: 562-627-5233; fax: 562-627-5210; email: roger.durbin@faa.gov.

(q) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 27, 2015.

(i) Boeing MD-90 Airworthiness Limitations Instructions (ALI), Report No. MDC-94K9000, Revision 6, dated September 2011.

(ii) Reserved.

(4) The following service information was approved for IBR on October 8, 1999 (64 FR 48284, September 3, 1999).

(i) McDonnell Douglas Airworthiness Limitations Instructions (ALI) Report No. MDC-94K9000, Revision 3, dated November 1997.

(ii) Reserved.

(5) For service information identified in this AD, contact Boeing Commercial Airplanes, Attention: Data & Services Management, 3855 Lakewood Boulevard, MC D800-0019, Long Beach, CA 90846-0001; telephone 206-544-5000, extension 2; fax 206-766-5683; Internet https://www.myboeingfleet.com.

(6) You may view this service information at FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on November 19, 2014.
Suzanne Masterson,
Acting Manager, Transport Airplane Directorate, Aircraft Certification Service.

[FR Doc. 2014-30131 Filed 12-23-14; 8:45 am]

BILLING CODE 4910-13-P